DEPARTMENT OF COMMERCE

Patent and Trademark Office

Agency Information Collection Activities; Submission to the Office of Management and Budget (OMB) for Review and Approval; Comment Request; Initial Patent Applications

The United States Patent and Trademark Office (USPTO) will submit the following information collection request to the Office of Management and Budget (OMB) for review and clearance in accordance with the Paperwork Reduction Act of 1995, on or after the date of publication of this notice. The USPTO invites comment on this information collection renewal, which helps the USPTO assess the impact of its information collection requirements and minimize the public's reporting burden. Public comments were previously requested via the Federal Register on September 29, 2020 during a 60-day comment period. This notice allows for an additional 30 days for public comments.

Agency: United States Patent and Trademark Office, Department of Commerce.

Title: Initial Patent Applications.

OMB Control Number: 0651-0032.

Form Number(s): (AIA = American Invents; SB = Specimen Book).

• PTO/AIA/01 (Declaration (37 CFR 1.63) for Utility or Design Patent Application using an Application Data Sheet (37 CFR 1.76))

• PTO/AIA/01CN (Chinese Language Declaration (37 CFR 1.63) for Utility or Design Application Using an Application Data Sheet (37 CFR 1.76))

• PTO/AIA/01DE (German Language Declaration (37 CFR 1.63) for Utility or Design Application Using an Application Data Sheet (37 CFR 1.76))

• PTO/AIA/01ES (Spanish Language Declaration (37 CFR 1.63) for Utility or Design Application Using an Application Data Sheet (37 CFR 1.76))

• PTO/AIA/01FR (French Language Declaration (37 CFR 1.63) for Utility or Design Application Using an Application Data Sheet (37 CFR 1.76))

• PTO/AIA/01IT (Italian Language Declaration (37 CFR 1.63) for Utility or Design Application Using an Application Data Sheet (37 CFR 1.76))

• PTO/AIA/01JP (Japanese Language Declaration (37 CFR 1.63) for Utility or Design Application Using an Application Data Sheet (37 CFR 1.76))

• PTO/AIA/01KR (Korean Language Declaration (37 CFR 1.63) for Utility or Design Application Using An Application Data Sheet (37 CFR 1.76))

• PTOAIA/01NL (Dutch Language Declaration (37 CFR 1.63) for Utility or Design Application Using an Application Data Sheet (37 CFR 1.76))

• PTO/AIA/01RU (Russian Language Declaration (37 CFR 1.63) for Utility or Design Application Using An Application Data Sheet (37 CFR 1.76))

• PTO/AIA/01SE (Swedish Language Declaration (37 CFR 1.63) for Utility or Design Application Using an Application Data Sheet (37 CFR 1.76))

• PTO/AIA/02 (Substitute Statement in Lieu of an Oath or Declaration for Utility or Design Patent Application (35 U.S.C. 115(d) and 37 CFR 1.64))

• PTO/AIA/02CN (Chinese (simplified) Language Substitute Statement in Lieu of an Oath or Declaration for Utility or Design Patent Application (35 U.S.C. 115(d) and 37 CFR 1.64))

• PTO/AIA/02DE (German Language Substitute Statement in Lieu of an Oath or Declaration for Utility or Design Patent Application (35 U.S.C. 115(d) and 37 CFR 1.64))

• PTO/AIA/02ES (Spanish Language Substitute Statement in Lieu of an Oath or Declaration for Utility or Design Patent Application (35 U.S.C. 115(d) and 37 CFR 1.64))

• PTO/AIA/02FR (French Language Substitute Statement in Lieu of an Oath or Declaration for Utility or Design Patent Application (35 U.S.C. 115(d) and 37 CFR 1.64))

• PTO/AIA/02IT (Italian Language Substitute Statement in Lieu of an Oath or Declaration for Utility or Design Patent Application (35 U.S.C. 115(d) and 37 CFR 1.64))

• PTO/AIA/02KR (Korean Language Substitute Statement in Lieu of an Oath or Declaration for Utility or Design Patent Application (35 U.S.C. 115(d) and 37 CFR 1.64))

• PTO/AIA/02NL (Dutch Language Substitute Statement in Lieu of an Oath or Declaration for Utility or Design Patent Application (35 U.S.C. 115(d) and 37 CFR1.64))

• PTO/AIA/02RU (Russian Language Substitute Statement in Lieu of an Oath or Declaration for Utility or Design Patent Application (35 U.S.C. 115(d) and 37 CFR 1.64))

• PTO/AIA/02SE (Swedish Language Substitute Statement in Lieu of an Oath or Declaration for Utility or Design Patent Application (35 U.S.C. 115(d) and 37 CFR 1.64)

• PTO/AIA/03 (Declaration (37 CFR 1.63) for Plant Patent Application using an Application Data Sheet (37 CFR 1.76))

• PTO/AIA/04 (Substitute Statement in Lieu of an Oath or Declaration for Plant Patent Application (35 U.S.C. 115(d) and 37 CFR 1.64))

• PTO/AIA/08 (Declaration for Utility or Design Patent Application (37 CFR 1.63))

• PTO/AIA/09 (Plant Patent Application (35 U.S.C. 161) Declaration (37 CFR 1.162))

• PTO/AIA/10 (Supplemental Sheet for Declaration)

• PTO/AIA/10 (Declaration (supplemental sheet for PTO/SB/AIA09))

• PTO/AIA/11 (Substitute Statement Supplemental Sheet)

• PTO/AIA/11 (Substitute Statement Supplemental Sheet (supplemental sheet for PTO/SB/AIA04))

• PTO/AIA/14 (Application Data Sheet (37 CFR 1.76))

• PTO/AIA/14 (EFS-Web (Application Data Sheet Form)

• PTO/AIA/15 (Utility Patent Application Transmittal)

• PTO/AIA/18 (Design Patent Application Transmittal)

• PTO/AIA/19 (Plant Patent Application Transmittal)

• PTO/SB/01 (Declaration for Utility or Design Patent Application (37 CFR 1.63)—applications filed before September 16, 2012)

• PTO/SB/01A (Declaration (37 CFR 1.63) for Utility or Design Application Using an Application Data Sheet (37 CFR 1.76)—applications filed on or before September 16, 2012)

• PTO/SB/02 (Declaration (Additional Inventors) and Supplemental Priority Data Sheet—applications filed before September 16, 2012)

• PTO/SB/02A, 02B (Declaration—Additional Inventors—Supplemental Sheet)

• PTO/SB/02CN (Declaration (Additional Inventors) and Supplemental Priority Data Sheets (Chinese Language Declaration for Additional Inventors)

• PTO/SB/02DE (Declaration (Additional Inventors) and Supplemental Priority Data Sheets (German Language Declaration for Additional Inventors))

• PTO/SB/02ES (Declaration (Additional Inventors) and Supplemental Priority Data Sheet (Spanish Language Declaration for Additional Inventors))

• PTO/SB/02FR (Declaration (Additional Inventors) and Supplemental Priority Data Sheet (French Language Declaration for Additional Inventors))

• PTO/SB/02IT (Declaration (Additional Inventors) and Supplemental Priority Data Sheet (Italian Language Declaration for Additional Inventors))

• PTO/SB/02JP (Declaration (Additional Inventors) and Supplemental Priority Data Sheet (Japanese Language Declaration for Additional Inventors))

• PTO/SB/02KR (Declaration (Additional Inventors) and Supplemental Priority Data Sheet (Korean Language Declaration for Additional Inventors))

• PTO/SB/02NL (Declaration (Additional Inventors) and Supplemental Priority Data Sheet (Dutch Language Declaration for Additional Inventors))

• PTO/SB/02RU (Declaration (Additional Inventors) and Supplemental Priority Data Sheet (Russian Language Declaration for Additional Inventors))

• PTO/SB/02SE (Declaration (Additional Inventors) and Supplemental Priority Data Sheet (Swedish Language Declaration for Additional Inventors))

• PTO/SB/02LR (Declaration Supplemental Sheet for Legal Representatives (35 U.S.C. 117) on Behalf of a Deceased or Incapacitated Inventor)

• PTO/SB/03 (Plant Patent Application (35 U.S. C. 161) Declaration (37 CFR 1.63))

• PTO/SB/03A (Declaration (37 CFR 1.63) for Plant Application Using an Application Data Sheet (37 CFR 1.76))

• PTO/SB/04 (Supplemental Declaration for Utility or Design Patent Application (37 CFR 1.67))

• PTO/SB/06 (Patent Application Fee Determination Record)

• PTO/SB/07 (Multiple Dependent Claim Fee Calculation Sheet)

• PTO/SB/08a (Information Disclosure Statement by Applicant)

• PTO/SB/09 (Certification and Request for Consideration of an Information Disclosure Statement Filed After Payment of the Issue Fee Under the QPIDS Pilot Program)

• PTO/SB/16 (Provisional Application for Patent Cover Sheet—Paper and Electronic Filing)

• PTO/SB/17 (Fee Transmittal)

• PTO/SB/29 (Continued Prosecution Application (CPA) Request Transmittal)

• PTO/SB/29A (Receipt for Facsimile Transmitted CPA)

• PTO/SB/101 (Declaration for Utility or Design Patent Application (37 CFR 1.63), Chinese Language—applications filed before September 16, 2012)

• PTO/SB/102 (Declaration for Utility or Design Patent Application (37 CFR 1.63), Dutch Language—applications filed before September 16, 2012)

• PTO/SB/103 (Declaration for Utility or Design Patent Application (37 CFR 1.63), German Language—applications filed before September 16, 2012)

• PTO/SB/104 (Declaration for Utility or Design Patent Application (37 CFR 1.63), Italian Language—applications filed before September 16, 2012)

• PTO/SB/105 (Declaration for Utility or Design Patent Application (37 CFR 1.63), French Language—applications filed before September 16, 2012)

• PTO/SB/106 (Declaration for Utility or Design Patent Application (37 CFR 1.63), Japanese Language—applications filed before September 16, 2012)

• PTO/SB/107 (Declaration for Utility or Design Patent Application (37 CFR 1.63), Russian Language—applications filed before September 16, 2012)

• PTO/SB/108 (Declaration for Utility or Design Patent Application (37 CFR 1.63), Swedish Language—applications filed before September 16, 2012)

• PTO/SB/109 (Declaration for Utility or Design Patent Application (37 CFR 1.63), Spanish Language—applications filed before September 16, 2012)

• PTO/SB/110 (Declaration for Utility or Design Patent Application (37 CFR 1.63), Korean Language—applications filed before September 16, 2012)

Type of Request: Extension and revision of a currently approved information collection.

Number of Respondents: 633,209 respondents per year.

Average Hour per Response: The USPTO estimates that it takes the public between 45 minutes (.75 hours) and 40 hours to complete a single response, depending on the complexity of the submission. This includes the time to gather the necessary information, prepare the appropriate documents, and to submit the response to the USPTO.

Estimated Total Annual Respondent Burden Hours: 15,598,813 hours.

Estimated Total Annual Non-Hour Cost Burden: $1,205,915,848.

Needs and Uses: The United States Patent and Trademark Office (USPTO) is required by Title 35 of the United States Code (U.S.C.) to examine applications for patents. The USPTO administers the patent statutes relating to examination through various regulations in such as 37 Code of Federal Regulations (CFR) 1.16 through 1.84. Each patent applicant must provide sufficient information to allow the USPTO to properly examine the application to determine whether it meets the criteria set forth in the patent statutes and regulations for issuance as a patent. The patent statutes and regulations require that an application for patent include the following information:

(1) A specification containing a description of the invention and at least one claim defining the property right sought by the applicant;

(2) A drawing(s) or photograph(s), where necessary, for an understanding of the invention;

(3) An oath or declaration signed by the applicant; and

(4) A filing fee.

Various types of patent applications are covered under this information collection:

• New original utility, plant, design, and provisional applications;

• Continuation/divisional applications of international applications;

• Continued prosecution applications (design); and

• Continuation/divisional and continuation-in-part applications of utility, plant, and design applications.

In addition, this information collection covers certain other papers filed by applicants, such as, petitions to accept an unintentionally delayed priority or benefit claim, petitions to accept a filing by other than all of the inventors or a person not the inventor, and petitions requesting that applications filed under 37 CFR 1.495(b) be accorded a receipt date.

Affected Public: Private sector; individuals or households.

Frequency: On occasion.

Respondent's Obligation: Required to obtain or retain benefits.

This information collection request may be viewed at www.reginfo.gov. Follow the instructions to view Department of Commerce, USPTO information collections currently under review by OMB.

Written comments and recommendations for this information collection should be submitted within 30 days of the publication of this notice on the following website www.reginfo.gov/public/do/PRAMain. Find this particular information collection by selecting “Currently under 30-day Review—Open for Public Comments” or by using the search function and entering either the title of the information collection or the OMB Control Number 0651-0032.

Further information can be obtained by:

• Email: InformationCollection@uspto.gov. Include “0651-0032 information request” in the subject line of the message.

• Mail: Kimberly Hardy, Office of the Chief Administrative Officer, United States Patent and Trademark Office, P.O. Box 1450, Alexandria, VA 22313-1450.

Kimberly Hardy,
Information Collections Officer, Office of the Chief Administrative Officer, United States Patent and Trademark Office.

[FR Doc. 2020-26364 Filed 11-27-20; 8:45 am]

BILLING CODE 3510-16-P